DEPARTMENT OF TRANSPORTATION

Pipeline and Hazardous Materials Safety Administration

Office of Hazardous Materials Safety Actions on Special Permit Applications

AGENCY: Pipeline And Hazardous Materials Safety Administration (PHMSA), DOT.

ACTION: Notice of actions on Special Permit Applications.

SUMMARY: In accordance with the procedures governing the application for, and the processing of, special permits from the Department of Transportation's Hazardous Material Regulations (49 CFR part 107, subpart B), notice is hereby given of the actions on special permits applications in (January to January 2013). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on February 7, 2013.
Donald Burger,
Chief, Special Permits and Approvals Branch.

S.P. No. | Applicant | Regulations(s) | Nature of special permit thereof
Modification Special Permit Granted
11914-M | Cascade Designs, Inc. Seattle, WA | 49 CFR 173.304(d)(3)(ii); 178.33 | To modify the special permit to authorize cargo only aircraft.
11273-M | Cherry Air, Inc. Addison, TX | 49 CFR Part 107, Subpart B, Appendix B with exceptions; 172.101; 172.204(c)(3); 173.27(b)(2)(3); 175.30(a) (1) | To modify the special permit to authorize Division 1.5 and 1.6 explosives which are forbidden or exceed the quantity limitation authorized for transportation by cargo aircraft.
15599-M | Vodik Labs, LLC (formerly Ovonic Hydrogen Systems) Fort Worth, TX | 49 CFR 173.311 | To modify the special permit originally issued on an emergency basis to authorize an additional two years.
15461-M | Kidde Products High Bentham | 49 CFR 171.23 | To modify the special permit to extend the expiration date and add an additional location to the authorized shipment locations.
15634-M | SodaStream USA Cherry Hill, NJ | 49 CFR 171.2(k) | To modify the special permit to authorize rail freight, cargo vessel, cargo aircraft, and passenger aircraft as additional modes of transportation.
15689-M | AVL Test Systems Inc. Plymouth, MI | 49 CFR 172.200, 177.834 | To reissue the special permit originally issued on an emergency basis and add rail freight as an additional mode of transportation authorized.
15664-M | Pollux Aviation Ltd. Wasilla, AK | 49 CFR 172.101 Column (9B); 175.30)(a)(1) | To modify the special permit originally issued on an emergency basis to routine with a two year renewal.
New Special Permit Granted
15638-N | Lantis Productions Inc. dba Lantis Fireworks & Lasers Draper, UT | 49 CFR 172.101, 172.204(c)(3), 173.27, 175.30(a)(1), 175.320 | Authorizes the transportation of Fireworks, Division 1.3G, UN0335 by cargo aircraft only, which is otherwise forbidden for air transportation. (mode 3)
15693-N | Croman Corporation White City, OR | 49 CFR 172.101 Column (9B); 172.204(c)(3); 173.27(b)(2); 175.30(a)(1); 172.200; 172.301(c); 175.75 | To authorize the transportation in commerce of certain hazardous materials by Part 133 Rotorcraft External Load Operations, attached to or suspended from an aircraft, without meeting certain hazard communication and stowage requirements. (mode 4)
15706-N | Viking Packing Specialist Tulsa, OK | 49 CFR 106, 107, 171-180; 173.13(a); 173.13(b); 173.13(c)(1)(ii); 173.13(c)(1)(iv); 173.13(c)(2)(iii) | To authorize the manufacture, mark and sale of specially designed combination type packaging for transporting certain hazardous materials in limited quantities without required labelling and placarding. (modes 1, 2, 4, 5)
15707-N | Air Products and Chemicals, Inc. Allentown, PA | 49 CFR 173.240; 173.242; 176.83 | To authorize the transportation in commerce of a gas purification apparatus containing bulk quantities of certain Division 4.2 (spontaneously combustible) solids in non-DOT specification stainless steel pressure vessels. (modes 1, 2, 3)
15713-N | Bulk Tank International Guanajuato, Mexico | 49 CFR 178.345-2; 178.346-2; 178.347-2; 178.348-2 | To authorize the manufacture, marking, sale and use of DOT 400 series cargo tanks using alternative materials of construction, specifically duplex stainless steels. (mode 1)
15726-N | Giant Resource Recovery Sewickley, PA | 49 CFR 173.306(k)(2); 173.156(b) | To authorize the transportation in commerce of waste aerosol cans in intermediate bulk containers without covering or clipping the valve stems. (mode 1)
15765-N | Delphi Automotive Systems, LLC WARREN OH | 49 CFR 173.306(k)(2); 173.156(b) | To authorize the manufacture, mark, sale and use of a UN4B aluminum box used for the transportation in commerce of damaged or defective lithium ion batteries (originally approved under CA2011050032) that do not meet the requirements of § 173.185(a). (modes 1, 3)
Emergency Special Permit Granted
12396-M | National Aeronautics and Space Administration Washington, DC | 49 CFR 180.209 and 173.302a | To modify the special permit to authorize a lithium battery along with the SAFER assembly (modes 1, 3, 4, 5)
15793-N | Northern Air Cargo Anchorage, AK | 49 CFR 172.101 Column (9B) | To authorize the one-time transportation of Division 1.3 Fireworks within the State of Alaska where no other means of transportation is available. (mode 4)
New Special Permit Withdrawn
15771-N | McLane Company, Inc. Temple, TX | 49 CFR 49 CFR Part 173.308 (e) | Renewal of SP 14600 permitting up to 5000 cigarette lighters in a truck. (mode 1)
15784-N | C L Smith Company Saint Louis, MO | 49 CFR 173.13(c)(i), (ii), (iii) | (To authorize the manufacture, mark, sale and use of the specially designed combination packagings described herein for transportation in commerce of the materials listed in paragraph 6 without hazard labels or placards, with quantity limits not exceeding 3.1 kg. (modes 1, 2, 3, 4, 5)
Emergency Special Permit Withdrawn
15796-N | Eaton Corporation Los Angeles, CA | 49 CFR 173.306(f)(1) thru (f)(4) | To authorize the transportation in commerce of a hydraulic strut accumulator containing nonliquefied, nonflammable gas and a Class 3 combustible liquid. (modes 1, 2, 3, 4, 5)

[FR Doc. 2013-03786 Filed 2-21-13; 8:45 am]

BILLING CODE 4909-60-M